DEPARTMENT OF TRANSPORTATION

Federal Aviation Administration

14 CFR Parts 91, 121, 135, and 145

[Docket No.:FAA-1999-5836]

RIN 2120-AC38

Repair Stations

AGENCY: Federal Aviation Administration (FAA), DOT.

ACTION: Final rule; delay of effective date.

SUMMARY: FAA is delaying the effective date of a final rule that amends the regulations for aeronautical repair stations. This action is necessary to give repair station certificate holders more time to develop required manuals using FAA guidance material, which has yet to be issued, before submitting the manuals to FAA for acceptance. Also this action will allow repair station certificate holders to follow FAA guidance material for requesting FAA approval of contract maintenance functions.

DATES: The effective date of the final rule amending 14 CFR parts 91, 121, 135, and 145 published on August 6, 2001, at 66 FR 41088 is delayed until October 6, 2003, with the following exception: § 145.163 is delayed until October 6, 2005.

FOR FURTHER INFORMATION CONTACT: Diana Frohn, Flight Standards Service, Aircraft Maintenance Division, General Aviation and Repair Station Branch, AFS-340, Federal Aviation Administration, 800 Independence Avenue, SW., Washington, DC 20591; telephone (202) 267-7027; e-mail diana.frohn@faa.gov.

SUPPLEMENTARY INFORMATION:

The Final Rule

On July 30, 2001, FAA issued Repair Stations; Final Rule with Request for Comments and Direct Final Rule with Request for Comments (66 FR 41088; August 6, 2001). That final rule, which becomes effective April 6, 2003, updates and revises part 145 of title 14, Code of Federal Regulations, which prescribes the regulations for aeronautical repair stations. In that rulemaking action, FAA established a new requirement that each repair station must maintain and use a current repair station manual and a quality control manual. FAA also prescribed the contents of these manuals.

In the preamble to the final rule FAA stated, “This final rule will become effective 20 months after it is published in the Federal Register. This time period is needed to develop advisory circulars and internal FAA guidance, and to train FAA personnel. Additionally, repair stations will need adequate time to comply with the new requirements.” On November 7, 2002, a notice was published in the Federal Register (67 FR 67891) announcing the availability of Proposed Advisory Circular (AC) 145-MAN, Guide for Developing and Evaluating Repair Station and Quality Control Manuals. In response to commenter requests, FAA extended the close of the comment period for AC 145-MAN from November 22, 2002, to February 5, 2003, (67 FR 70291; November 21, 2002).

On October 21, 2002, Mr. Jason Dickstein, Counsel, sent a petition to FAA for the Aircraft Electronics Association, the Aerospace Industries Association, the Aviation Suppliers Association, and the National Air Transportation Association.

The petitioners request that FAA—

1. “Postpone the implementation date of the changes to part 145 that were published at 66 FR 41088-41124 (August 6, 2001) until no earlier than 180 days after the FAA publishes a notice in the Federal Register of the availability of the advisory circular that describes how to comply with the repair station manual and quality control manual provisions of new sections 145.207 through 145.211.”

2. “Publish notice of implementation postponement in the Federal Register.”

3. “Publish a transition rule that permits early compliance with the new rule.”

The petitioners contend that FAA has not yet published advisory material and guidance explaining how to produce a manual that is acceptable to FAA. Further, the petitioners assert that without advisory material, FAA cannot adequately train its personnel.

FAA has reviewed the petition and agrees with the petitioners that additional time is necessary to allow each repair station to prepare a repair station manual and a quality control manual following the guidance to be provided in AC 145-MAN. Since the guidance has not yet been issued, FAA finds that an extension is in the public interest.

Although the petitioners request that FAA allow for early compliance with the new rule, FAA finds it appropriate to extend the effective date of the entire final rule. FAA has determined that it would not be in the public interest to have both the current rule and the final rule in effect at the same time. Although this would allow some repair stations to comply with the final rule while repair stations operating under the current rule prepare their manuals, FAA finds this administratively complex.

The vast majority of repair station principal inspectors have oversight responsibility for several repair stations of varying complexity. Concurrent oversight and enforcement of two separate rules with different regulatory requirements would cause confusion and adversely impact the standardized application of repair station regulations. Additionally, FAA has determined that this would not be an efficient use of its inspector resources.

Further, the petitioners request an extension of 180 days from Federal Register publication of the notice of availability of a final AC. Since FAA intends to publish a final AC in the near future, the agency finds that an extension of 180 days from the April 6, 2003, effective date of the rule is sufficient.

Finally, the delay in the effective date of the final rule does not impose any new requirements or any additional burden on the regulated public. FAA, therefore, finds there are no additional costs or benefits associated with this action. However, the 180-day extension will delay realization of some cost savings provided by the rule.

Good Cause for Immediate Adoption

In accordance with 5 U.S.C. 553(b)(3)(B), FAA finds good cause for issuing this rule without prior notice and comment. Seeking public comment is impracticable, unnecessary, and contrary to the public interest. This delay of effective date will give repair stations sufficient time to use FAA guidance material in preparing to operate under the amended regulations for repair stations. Given the imminence of the effective date, seeking prior public comments on this temporary delay would have been impracticable, as well as contrary to the public interest in the orderly promulgation and implementation of this rule.

In consideration of the foregoing, FAA is amending parts 91, 121, 135, and 145 to delay the effective date of the final rule by 180 days.

Issued in Washington, DC, on March 4, 2003.
Marion C. Blakey,
Administrator.

[FR Doc. 03-6181 Filed 3-12-03; 8:45 am]

BILLING CODE 4910-13-P